DEPARTMENT OF VETERANS AFFAIRS

[OMB Control No. 2900-New (Apportionment of Beneficiary's Award)]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 10, 2005.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-New (Apportionment of Beneficiary's Award).”

Send comments and recommendations concerning any aspect of the information collection to VA's OMB Desk Officer, OMB Human Resources and Housing Branch, New Executive Office Building, Room 10235, Washington, DC 20503, (202) 395-7316. Please refer to “OMB Control No. 2900-New (Apportionment of Beneficiary's Award)” in any correspondence.

SUPPLEMENTARY INFORMATION: Title: Information Regarding Apportionment of Beneficiary's Award, VA Form 21-0788.

OMB Control Number: 2900-New (Apportionment of Beneficiary's Award).

Type of Review: New collection.

Abstract: The data collected on VA Form 21-0788 is used to determine whether a veteran's or beneficiary's compensation and pension benefits may be allocated to his or her dependents. The veteran and the beneficiary use the form to report their income information in order for VA to determine the amount of benefit that may be apportioned to a spouse and children who do not reside with the veteran. A portion of the surviving spouse's benefits may be allocated to children of deceased veterans, who do not reside with the surviving spouse.

An agency may not conduct or sponsor, and a person is not required to respond to a collection of information unless it displays a currently valid OMB control number. The Federal Register Notice with a 60-day comment period soliciting comments on this collection of information was published on April 4, 2005, at page 17145.

Affected Public: Individuals or households.

Estimated Annual Burden: 12,500 hours.

Estimated Average Burden Per Respondent: 30 minutes.

Frequency of Response: One time.

Estimated Number of Respondents: 25,000.

Dated: June 29, 2005.
By direction of the Secretary.
Denise McLamb,
Program Analyst, Records Management Service.

[FR Doc. E5-3613 Filed 7-8-05; 8:45 am]

BILLING CODE 8320-01-P